ENVIRONMENTAL PROTECTION AGENCY

[FRL-8774-5]

Science Advisory Board Staff Office; Notification of a Public Teleconference of the Clean Air Scientific Advisory Committee (CASAC) Ozone Review Panel

AGENCY: Environmental Protection Agency (EPA).

ACTION: Notice.

SUMMARY: The Environmental Protection Agency (EPA) Science Advisory Board (SAB) Staff Office announces a public teleconference of the Clean Air Scientific Advisory Committee Ozone Review Panel to conduct a consultation on EPA's draft Integrated Review Plan for the National Ambient Air Quality Standards for Ozone (February 2009).

DATES: The public teleconference will be held on Monday, March 30, 2009 from 11 a.m. to 2 p.m. (Eastern Time).

Location: The public teleconference will be conducted by telephone only.

FOR FURTHER INFORMATION CONTACT: Any member of the public who wants further information concerning the teleconference meeting may contact Dr. Holly Stallworth, Designated Federal Officer (DFO), EPA Science Advisory Board (1400F), U.S. Environmental Protection Agency, 1200 Pennsylvania Avenue, NW., Washington, DC 20460; via telephone/voice mail (202) 343-9867; fax (202) 233-0643; or e-mail at stallworth.holly@epa.gov. General information concerning the CASAC can be found on the EPA Web site at http://www.epa.gov/casac.

SUPPLEMENTARY INFORMATION: Background: The Clean Air Scientific Advisory Committee (CASAC) was established under section 109(d)(2) of the Clean Air Act (CAA or Act) (42 U.S.C. 7409) as an independent scientific advisory committee. CASAC provides advice, information and recommendations on the scientific and technical aspects of air quality criteria and national ambient air quality standards (NAAQS) under sections 108 and 109 of the Act. The CASAC is a Federal advisory committee chartered under the Federal Advisory Committee Act (FACA), as amended, 5 U.S.C., App. The CASAC Ozone Review Panel Panel will comply with the provisions of FACA and all appropriate SAB Staff Office procedural policies.

Section 109(d)(1) of the CAA requires that the Agency periodically review and revise, as appropriate, the air quality criteria and the National Ambient Air Quality Standards (NAAQS) for the six “criteria” air pollutants, including ozone. EPA is currently reviewing the primary (health-based) and secondary (welfare-based) NAAQS for ozone. Accordingly, the SAB Staff Office solicited nominations for the Ozone Review Panel on June 26, 2008 (73 FR 36319-36321). Membership of the Panel is listed at: http://yosemite.epa.gov/sab/sabpeople.nsf/WebExternalSubCommitteeRosters?OpenView&committee=CASAC&subcommittee=Ozone%20Review%20Panel.

EPA is developing the Integrated Review Plan (IRP) that will serve as the framework for its review of the ozone NAAQS. The IRP presents background information, the schedule for the review, the process to be used in conducting the review, and the key policy-relevant science issues that will guide the review. The IRP also discusses the frameworks for the various documents to be prepared by the EPA as part of the review, including an integrated science assessment (ISA) and a risk/exposure assessment (REA), and policy assessment, that will be submitted for later CASAC review and public comment. The purpose of the March 30, 2009 teleconference is for the CASAC Panel to provide consultative advice on the draft Integrated Review Plan for the National Ambient Air Quality Standards for Ozone.

Technical Contacts: Any questions concerning EPA's Integrated Review Plan for ozone should be directed to Dr. David McKee, OAR, at (919) 541-5288 or mckee.dave@epa.gov.

Availability of Meeting Materials: A meeting agenda and other materials for the meeting will be placed on the CASAC Web site at http://yosemite.epa.gov/sab/SABPRODUCT.NSF/81e39f4c09954fcb85256ead006be86e/97662d128e20ca968525746b006ce9fd!OpenDocument. The Integrated Review Plan for the National Ambient Air Quality Standards for Ozone will be available at http://www.epa.gov/ttn/naaqs/standards/ozone/s_o3_index.html (see “Planning Documents”).

Procedures for Providing Public Input: Interested members of the public may submit relevant written or oral information for consideration on the topics included in this advisory activity. Oral Statements: To be placed on the public speaker list for the March 30, 2009 meeting, interested parties should notify Dr. Holly Stallworth, DFO, by e-mail no later than March 24, 2009. Individuals making oral statements will be limited to three minutes per speaker. Written Statements: Written statements for the March 30, 2009 meeting should be received in the SAB Staff Office by March 24, 2009, so that the information may be made available to the CASAC Panel for its consideration prior to this meeting. Written statements should be supplied to the DFO in the following formats: one hard copy with original signature and one electronic copy via e-mail (acceptable file format: Adobe Acrobat PDF, MS Word, WordPerfect, MS PowerPoint, or Rich Text files in IBM-PC/Windows 98/2000/XP format). Submitters are asked to provide versions of each document submitted with and without signatures, because the SAB Staff Office does not publish documents with signatures on its Web sites.

Accessibility: For information on access or services for individuals with disabilities, please contact Dr. Stallworth at the phone number or e-mail address noted above, preferably at least ten days prior to the teleconference, to give EPA as much time as possible to process your request.

Dated: February 12, 2009.
Anthony F. Maciorowski,
Deputy Director, EPA Science Advisory Board Staff Office.

[FR Doc. E9-3504 Filed 2-18-09; 8:45 am]

BILLING CODE 6560-50-P